DEPARTMENT OF THE INTERIOR

National Park Service

Draft Legislative Environmental Impact Statement Timbisha Shoshone Homeland Death Valley National Park; Notice of Availability

SUMMARY: Pursuant to § 102(2)c of the National Environmental Policy Act of 1969 (Public Law 91-190, as amended), and the Council on Environmental Quality regulations (40 CFR Part 1500-1508), at the request of the Department of the Interior, the National Park Service, in cooperation with the Bureau of Land Management, Fish and Wildlife Service, and the Bureau of Reclamation has prepared a Draft Legislative Environmental Impact Statement (LEIS) identifying and evaluating two alternatives for a Timbisha Shoshone Homeland within and around Death Valley National Park, California. Potential impacts and appropriate mitigation strategies are identified and assessed for each alternative. Establishing the proposed Homeland would entail specific legislation. If approved, the plan will guide management actions in the transfer of lands and the development of cooperative agreements.

Proposal: The proposed Timbisha Shoshone Homeland (Alternative A-Preferred) would transfer approximately 7,500 acres of federal lands (currently managed by Death Valley National Park and the Bureau of Land Management in California and Nevada) into trust with the Department of the Interior for the creation of a tribal homeland. Permission would be sought for acquisition of two parcels of approximately 120 acres of former Indian allotted lands in Saline Valley, California, and approximately 2,430 acres near Lida, Nevada, from private owners, as willing sellers.

Alternatives

Alternative B maintains the status quo, as described in Chapter 3, Description of Environment and Affected Resources. It provides a baseline from which to compare and evaluate the magnitude of proposed changes, and to measure the foreseeable environmental effects of those changes. This no-action concept follows the guidance of the Council on Environmental Quality, which describes the no-action alternative as no change from the current management direction or level of management intensity.

Planning Background

The draft Timbisha Shoshone Homeland LEIS was prepared pursuant to the National Environmental Policy Act. Although scoping is not required for the preparation of a LEIS, an understanding of public concerns was desired. Accordingly, a notice of availability was published in the National Register on April 19, 1999 announcing to the public the opportunity of commenting on the Draft Secretarial Report. The release of the report assisted the agencies in gathering public input, which aided in the analysis subsequently undertaken in preparing the LEIS. In addition, six public meetings were conducted and five informational meetings were held at the request of state congressional delegations and county commissioners and supervisors. Over 550 letters were received during the public review period providing details on a wide spectrum of regulatory, socioeconomic, and environmental issues. A Scoping Summary document was prepared to identify issues directly related to resource management and the regulatory process to be addressed in the LEIS. In October 1999, a copy of the 11-page Scoping Summary Document was mailed to everyone who attended the public meetings or commented during the process.

Public Meetings

At this time, it is anticipated that four public meetings will be held during June, 2000. Confirmed dates, times, and locations will be posted on the internet (see below), and published in local and regional newspapers several weeks in advance. Participants are encouraged to review the document prior to attending a meeting. Representatives from the Department of Interior, Timbisha Shoshone Tribe, Death Valley National Park, and the Bureau of Land Management will attend all sessions to present the draft Timbisha Shoshone Homeland LEIS, to receive oral and written comments, and to answer questions.

Comments

The draft Timbisha Shoshone Homeland LEIS will be sent directly to the project mailing list. Copies will be available at park headquarter at Furnace Creek, field offices of BLM Ridgecrest, California and Tonopah, Nevada, and at local and regional libraries. Also, volume 1 of the LEIS will be posted on the internet at http://www3.iwvisp.com/blm/report. Written comments must be postmarked or transmitted by e-mail not later than 60-days after EPA publishes its “Friday listing” of the filing of the LEIS (anticipated deadline being approximately July 22, 2000) and should be addressed to the Superintendent, Death Valley National Park, P.O. Box 579, Death Valley, California 92328.

All comments received will be available for public review in the parks library. If individuals submitting comments request that their name or/and address be withheld from public disclosure, it will be honored to the extent allowable by law. Such requests must be stated prominently in the beginning of the comments. There may also be circumstances wherein the NPS will withhold a respondent's identity as allowable by law. As always: NPS will make available to public inspection all submissions from organizations or businesses and from persons identifying themselves as representatives or officials of organizations and businesses, and anonymous comments may not be considered.

Decision Process

Depending upon the degree of public interest and response from other agencies and organizations, at this time it is anticipated that the Final Timbisha Shoshone Homeland LEIS will be completed during the late summer-early fall of 2000. Availability of the document will be duly noticed in the Federal Register. Subsequently, notice of an approved Record of Decision would be published in the Federal Register not sooner than thirty (30) days after the final document is distributed. This is expected to occur by late fall 2000.

The Department officials responsible for approval are: the Assistant Secretary for Fish, Wildlife and Parks; the Assistant Secretary for Land and Minerals Management; and the Assistant Secretary for Indian Affairs. It is anticipated that the proposal would be submitted by the Secretary of the Interior to Congress for consideration. If enacted, the National Park Service officials responsible for implementation would be the Superintendent, Death Valley National Park and the Regional Director, Pacific West Region; as well as the State Directors, Bureau of Land Management, Nevada and California; the Assistant Secretary for Indian Affairs; and the Bureau of Indian Affairs, Central California Agency.

Dated: May 5, 2000.
John J. Reynolds,
Regional Director, Pacific West Region.

[FR Doc. 00-11954 Filed 5-11-00; 8:45 am]

BILLING CODE 4310-70-P